ENVIRONMENTAL PROTECTION AGENCY

[FRL-7836-2]

Workshop on Lead in Drinking Water in Schools and Child Care Facilities

AGENCY: Environmental Protection Agency.

ACTION: Notice.

SUMMARY: The U.S. Environmental Protection Agency (EPA) is holding a workshop to discuss issues concerning lead in drinking water in schools and child care facilities. The EPA recognizes that lead in drinking water most often occurs within the distribution system and the Agency is especially concerned about its effects on vulnerable populations, such as children. The EPA is hosting this workshop to discuss experiences and options with national experts in drinking water and children's health and education. The workshop participants will discuss best practices to promote awareness and water testing in schools and child care facilities, linkages between water suppliers and school officials, school and child care facilities participation in voluntary programs, and the Lead and Copper Rule and Lead Contamination Control Act as they apply to schools and child care facilities. The EPA has been working with the Department of Education to plan this event.

DATES: The workshop will be held on December 7, 2004, 8:30 a.m. to 5:30 p.m. Eastern time.

ADDRESSES: The workshop will be held at the Wyndham Washington Hotel, 1400 M Street NW., Washington, DC 20005.

FOR FURTHER INFORMATION CONTACT: To attend this workshop as an observer registration is required. Attendance as an observer is limited to the first 50 people to register. To register by phone, please contact Sarah Koppel at 202-564-3859, or register by e-mail at koppel.sarah@epa.gov. For administrative meeting information and technical information contact Lisa Christ, Office of Water, Office of Ground Water and Drinking Water, U.S. EPA, 1200 Pennsylvania Ave., NW., (MC 4606M), Washington, DC 20460, at 202-564-8354 or by e-mail at christ.lisa@epa.gov.

SUPPLEMENTARY INFORMATION: There is no charge for attending this workshop as an observer, but seats are limited, so register as soon as possible. Any person needing special accommodations at the meeting, including wheelchair access, should make this known at the time of registration.

Dated: November 1, 2004.
Cynthia C. Dougherty,
Director, Office of Ground Water and Drinking Water.

[FR Doc. 04-24922 Filed 11-8-04; 8:45 am]

BILLING CODE 6560-50-P